ENVIRONMENTAL PROTECTION AGENCY

[FRL-9913-44-OA]

Notification of Two Public Teleconferences of the Science Advisory Board Panel for the Review of the EPA Water Body Connectivity Report

AGENCY: Environmental Protection Agency (EPA).

ACTION: Notice.

SUMMARY: The EPA Science Advisory Board (SAB) Staff Office announces two public teleconferences of the SAB Panel to provide comments to the chartered SAB on the adequacy of the scientific and technical basis of the proposed rule titled Definition of Waters of the United States under the Clean Water Act.

DATES: The SAB Panel for the Review of the EPA Water Body Connectivity Report will conduct public teleconferences on August 20, 2014 and August 21, 2014. Each of the teleconferences will begin at 1:00 p.m. and end at 5:00 p.m. (Eastern Time).

Location: The public teleconferences will be conducted by telephone only.

FOR FURTHER INFORMATION CONTACT: Any member of the public wishing to obtain information concerning the public teleconferences may contact Dr. Thomas Armitage, Designated Federal Officer (DFO), EPA Science Advisory Board Staff Office (1400R), U.S. Environmental Protection Agency, 1200 Pennsylvania Avenue NW., Washington, DC 20460; via telephone at (202) 564-2155 or via email at armitage.thomas@epa.gov. General information concerning the SAB as well as any updates concerning the teleconferences announced in this notice may be found on the EPA Web site at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB Panel for the Review of the EPA Water Body Connectivity Report will hold two public teleconferences to provide comments to the chartered SAB on adequacy of the scientific and technical basis of the proposed rule titled Definition of Waters of the United States under the Clean Water Act. This proposed rule was published by the EPA and the U.S. Army Corps of Engineers on April 21, 2014 (79 FR 22188).

Background: The SAB Panel for the Review of the EPA Water Body Connectivity Report was established to conduct a peer review of the EPA draft report titled Connectivity of Streams and Wetlands to Downstream Waters: A Review and Synthesis of the Scientific Evidence (September, 2013 External Review Draft, EPA/600/R-11/098B). The report was written to inform development of a rule proposed by the EPA and the U.S. Army Corps of Engineers to clarify the definition of waters of the United States under the Clean Water Act (79 FR 22188). The Panel was charged with reviewing the overall clarity and technical accuracy of the EPA draft report, whether it included and correctly summarized the most relevant peer-reviewed scientific literature, and whether the findings and conclusions were supported by the available science. To conduct the peer review, the Panel held a face-to-face meeting on December 16-18, 2013 [Federal Register Notice dated September 24, 2013 (78 FR 58536)], public teleconferences on April 28 and May 2, 2014 [Federal Register Notice dated April 1, 2014 (79 FR 18293)], and a public teleconference on June 19, 2014 [Federal Register Notice dated May 23, 2014 (79 FR 29760)]. Information about this activity may be found at http://yosemite.epa.gov/sab/sabproduct.nsf/fedrgstr_activites/Watershed%20Connectivity%20Report?OpenDocument.

The ERDDAA requires the EPA to make available to the SAB proposed criteria documents, standards, limitations, or regulations provided to any other federal agency for formal review and comment together with the relevant scientific and technical information on which the proposed action is based. The SAB may then make available to the Administrator its advice and comments on the adequacy of the scientific and technical basis of the proposed actions. The purpose of the upcoming teleconferences is for the SAB Panel to develop comments to the chartered SAB on the adequacy of the scientific and technical basis of the proposed rule cited above. Comments from the Panel will inform a letter to the EPA Administrator, to be prepared by the chartered SAB, on the adequacy of the scientific and technical basis of the proposed rule titled Definition of Waters of the United States under the Clean Water Act. The two Panel teleconferences will be conducted as one complete meeting, beginning on August 20, 2014 and continuing on August 21, 2014. Information about this advisory activity may be found at http://yosemite.epa.gov/sab/sabproduct.nsf/fedrgstr_activites/WOUS-adv%26com?OpenDocument.

Availability of Meeting Materials: Teleconference agendas and any other meeting materials will be placed on the SAB Web site at http://www.epa.gov/sab in advance of the teleconferences. The proposed rule titled Definition of Waters of the United States under the Clean Water Act is available on the EPA Web site at http://www2.epa.gov/sites/production/files/2014-04/documents/fr-2014-07142.pdf. For questions and information concerning the proposed rule please contact Ms. Donna Downing, Office of Water (4502-T), Environmental Protection Agency, 1200 Pennsylvania Avenue NW., Washington, DC 20460; telephone (202) 566-2428 or via email at CWAwaters@epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide oral statements to the SAB Panel should contact the DFO directly. Oral Statements: In general, individuals or groups requesting an oral presentation at a public teleconference will be limited to three minutes. Interested parties should contact Dr. Thomas Armitage, DFO, in writing (preferably via email) at the contact information noted above by August 13, 2014 to be placed on the list of public speakers for August 20, 2014. Written Statements: Members of the public wishing to provide written comments may submit them to the EPA Docket electronically via www.regulations.gov by email, by mail, or by hand delivery/courier. Please follow the detailed instructions provided in the written statements section of this notice. Written statements should be received in the EPA Docket by August 13, 2014 so that the information may be made available to the SAB Panel for its consideration. Written statements should be identified by Docket ID No. EPA-HQ-OA-2014-0010 and submitted to the Docket at www.regulations.gov by one of the following methods:

• www.regulations.gov: Follow the on-line instructions for submitting comments.

• Email: Docket_OEI@epa.gov: Include the docket number in the subject line of the message.

• Mail: Office of Environmental Information (OEI) Docket (Mail Code: 28221T), Docket ID No. EPA-HQ-OA-2014-0010, U.S. Environmental Protection Agency, 1200 Pennsylvania Ave. NW., Washington, DC 20460. The phone number is (202) 566-1752.

• Hand Delivery: The OEI Docket is located in the EPA headquarters Docket Center, Room 3334, EPA West Building, 1301 Constitution Ave. NW., Washington, DC. The EPA Docket Center Public Reading Room is open from 8:30 a.m. to 4:30 p.m., Monday through Friday, excluding legal holidays. The telephone number for the Public Reading Room is (202) 566-1744. Deliveries are only accepted during the docket's normal hours of operation, and special arrangements should be made for deliveries of boxed information.

Direct your comments to Docket ID No. EPA-HQ-OA-2014-0010. Please ensure that your comments are submitted by August 13, 2014. Comments received after that date will be marked late and may not be provided to the SAB Panel for consideration before the August 20, 2014 teleconference. It is EPA's policy to include all comments received in the public docket without change and to make the comments available on-line at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email directly to EPA without going through www.regulations.gov, your email address will be automatically captured and included as part of the comment that is placed in the public docket and made available on the Internet. If you submit an electronic comment, EPA recommends that you include your name and other contact information in the body of your comment and with any disk or CD-ROM you submit. If EPA cannot read your comments due to technical difficulties and cannot contact you for clarification, the SAB Panel may not be able to consider your comments. Electronic files should avoid the use of special characters and any form of encryption and be free of any defects or viruses. For additional information about EPA's public docket, visit the EPA Docket Center homepage at www.epa.gov/epahome/dockets.htm.

Documents in the docket are listed in the www.regulations.gov index. Although listed in the index, some information is not publicly available, e.g., CBI or other information whose disclosure is restricted by statute. Certain other material, such as copyrighted material will be publicly available only in hard copy. Publicly available docket materials are available either electronically at www.regulations.gov or in hard copy at the OEI Docket in the EPA Headquarters Docket Center.

Accessibility: For information on access or services for individuals with disabilities, please contact Dr. Thomas Armitage at (202) 564-2155 or armitage.thomas@epa.gov. To request accommodation of a disability, please contact Dr. Armitage preferably at least ten days prior to the teleconference to give EPA as much time as possible to process your request.

Dated: June 30, 2014.
Thomas H. Brennan,
Deputy Director, EPA Science Advisory Staff Office.

[FR Doc. 2014-16308 Filed 7-10-14; 8:45 am]

BILLING CODE 6560-50-P